DEPARTMENT OF THE INTERIOR

National Park Service

Draft General Management Plan/Environmental Assessment, Saugus Iron Works National Historic Site, Essex County, MA

AGENCY: National Park Service, Interior.

ACTION: Notice of availability of Draft General Management Plan/Environmental Assessment.

SUMMARY: Pursuant to Council on Environmental Quality regulations and National Park Service Policy, this notice announces the availability for public review of a Draft General Management Pan/Environmental Assessment for Saugus Iron Works National Historic Site, Essex County, Massachusetts. In accordance with the National Environmental Policy Act 102(2)(C) of 1969, the environmental assessment was prepared to assess the impacts of implementing the general management plan.

The Draft General Management Plan/Environmental Assessment presents a Proposal and two Management Alternatives, then assesses the potential environmental, cultural and socioeconomic effects of the actions presented on site resources, visitor experience, and the surrounding area. The Proposal and the Alternatives differ in their approaches to achieving the site's management goals and resolving planning issues associated with those goals. Alternative 1 (The Preferred Alternative) involves (a) rehabilitating the interior of the museum building to allow for compliance with NPS museum exhibit standards and consolidating the museum collections and archival materials in existing residences that would be adaptively reused to house these resources under appropriate climate controlled and protective systems, (b) removing existing maintenance facilities, restoring their current locations and consolidating them into a single facility, (c) adaptively reusing the Iron Works House Annex and Lean-to into a visitor contact facility, and (d) improving access through the iron works structures and between those structures and the Iron Works House and Museum for persons with disabilities and special needs. Alternative 2 (Enhanced Facility Development) involves (a) constructing a new collections storage facility adjacent to the existing museum building, (b) acquiring or leasing existing commercial or industrial space off-site for use as maintenance facilities, along with restoring the locations where such facilities are currently sited, (c) constructing a new visitor center at the site of the existing maintenance facility on the west bluff, and (d) implementing one of two alternative scenarios for providing improved access for visitors from the bluff to the industrial area: either a switchback trail or a long straight trail. Alternative 3 (The No Action Alternative) involves no changes to existing conditions.

DATES: The Draft General Management Plan/Environmental Assessment will be made available on July 9, 2001. Following a 60-day comment period, the environmental analysis, along with public and agency comments, will form the basis for the selection, by the Regional Director of a single plan for implementation. The Final General Management Plan/Environmental Assessment will then be issued and made available to the public for an additional 60 days. If at the end of that second review period, no significant issues or public controversy have arisen, the Regional Director will issue a Finding Of No Significant Impact (FONSI).

SUPPLEMENTARY INFORMATION: Copies of the document will be available for review at the following locations:

Saugus Iron Works National Historic Site-Visitor Kiosk, 244 Central Street, Saugus, MA 01906. The visitor kiosk is open everyday from 9 a.m. to 5 p.m.

The Saugus Public Library, 295 Central Street Saugus, MA. The library is open Monday through Thursday from 8:30 a.m. to 8:30 p.m.; Friday hours are 8:30 a.m. until noon. The library is closed on weekends.

To request a copy of the document, please call (781) 233-0050, fax (781-231-7345), or write Superintendent, Saugus Iron Works National Historic Site 244 Central Street, Saugus, MA 01906.

Marie Rust,
Regional Director, Northeast Region.

[FR Doc. 01-24636 Filed 10-1-01; 8:45 am]

BILLING CODE 4310-70-M